DEPARTMENT OF DEFENSE

Department of the Army

[Docket ID: USA-2008-0026]

Privacy Act of 1974; System of Records

AGENCY: Department of the Army, DoD.

ACTION: Notice to Amend a System of Records.

SUMMARY: The Department of the Army is amending a system of records notice in its existing inventory of record systems subject to the Privacy Act of 1974 (5 U.S.C. 552a), as amended.

DATES: This proposed action will be effective without further notice on August 25, 2008, unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Department of the Army systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: July 17, 2008.
Patricia L. Toppings,
OSD Federal Register Liaison Officer, Department of Defense.

A0190-14 DAMO

System name:

Registration and Permit Files (February 22, 1993, 58 FR 10002).

Changes:

Change System Identifier to “A0190-14 OPMG”.

* * * * *

Authority for maintenance of the system:

Delete entry and replace with “10 U.S.C. 3013, Department of the Army; Army Regulation 190-14, Carrying of Firearms and Use of Force for Law Enforcement Security Duties; and E.O. 9397 (SSN).”

* * * * *

Storage:

Delete entry and replace with “Paper records in file folders and electronic storage media”.

* * * * *

A0190-14 OPMG

System name:

Registration and Permit Files (February 22, 1993, 58 FR 10002).

System location:

Army installations. Official mailing addresses are published as an appendix to the Army's compilation of systems of records notices.

Categories of individuals covered by the system:

Any citizen registering restricted items of property on a military installation or desiring to engage in restricted activities on a military installation. Items/activities include but are not limited to privately owned firearms/weapons, pets and hunting and fishing.

Categories of records in the system:

Registration form for items of restricted property; permit application for restricted activities.

Authority for maintenance of the system:

10 U.S.C. 3013, Department of the Army; Army Regulation 190-14, Carrying of Firearms and Use of Force for Law Enforcement Security Duties; and E.O. 9397 (SSN).

Purpose(s):

To assist the commander in carrying out effective law enforcement, troop safety, and crime prevention programs.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information is furnished to criminal justice elements outside the Department of Defense for investigation and prosecution when such cases fall within their jurisdiction or concurrent jurisdiction is applicable. These include: Federal Bureau of Investigation; U.S. Customs Services; Bureau of Alcohol, Tobacco and Firearms; U.S. District Courts; U.S. Magistrates; state and local law enforcement, wildlife conservation and public health agencies; and, in overseas areas, host government law enforcement agencies.

The ‘Blanket Routine Uses’ set forth at the beginning of the Army's compilation of systems of records notices also apply to this system.

Policies and practices for storing, retrieving, accessing, retaining, and disposing of records in the system:

Storage:

Paper records in file folders and electronic storage media.

Retrievability:

By individual's surname.

Safeguards:

Only authorized personnel have access to files. Physical security measures include locked containers/storage areas, controlled personnel access, and continuous presence of authorized personnel.

Retention and disposal:

Destroyed upon removal of the restricted property from the military installation or upon expiration of the permit.

System manager(s) and address:

Deputy Chief of Staff for Operations and Plans, ATTN: DAMO-ODL, Headquarters, Department of the Army, Washington, DC 20310-0440.

Notification procedure:

Individuals seeking to determine whether information about themselves is contained in this system should address written inquiries to the Deputy Chief of Staff for Operations and Plans, ATTN: DAMO-ODL, Headquarters, Department of the Army, Washington, DC 20310-0440.

Individual should provide the full name, Social Security Number, and other information verifiable from the record itself.

Record access procedures:

Individuals seeking access to information about themselves contained in this system should address written inquiries to the Deputy Chief of Staff for Operations and Plans, ATTN: DAMO-ODL, Headquarters, Department of the Army, Washington, DC 20310-0440.

Individual should provide the full name, Social Security Number, and other information verifiable from the record itself.

Contesting record procedures:

The Army's rules for accessing records, and for contesting contents and appealing initial agency determinations are contained in Army Regulation 340-21; 32 CFR part 505; or may be obtained from the system manager.

Record source categories:

Any citizen desiring/required to register firearms/weapons, pets, etc. that will be maintained within or desiring to hunt/fish within the confines of any Army installation.

Exemptions claimed for the system:

Parts of this system may be exempt under 5 U.S.C. 552a(k)(2), as applicable.

An exemption rule for this system has been promulgated in accordance with requirements of 5 U.S.C. 553(b)(1), (2), and (3), (c) and (e) and published in 32 CFR part 505. For additional information contact the system manager.

[FR Doc. E8-17014 Filed 7-24-08; 8:45 am]

BILLING CODE 5001-06-P